DEPARTMENT OF COMMERCE

National Institute of Standards and Technology

[Docket No. 120322215-2213-01]

Request for Technical Input—Standards in Trade Workshops

AGENCY: National Institute of Standards and Technology, Commerce.

ACTION: Request for Workshop Recommendations.

SUMMARY: The National Institute of Standards and Technology (NIST) invites all interested parties, including U.S.-based manufacturers, U.S. industry and trade associations and federal government agencies, to submit recommendations and suggestions for workshops covering specific sectors and targeted countries or regions of the world where training in the U.S. approaches to development and use of standards, including assessment of conformity to standards, may facilitate trade, increase U.S. exports, and/or benefit U.S. industry. Standards in Trade (SIT) workshops are designed to introduce U.S. stakeholders to emerging standards and conformity assessment issues in other countries and regions; identify regulatory information and market access issues; and provide timely information to foreign officials on U.S. practices in standards, metrology and conformity assessment. Interested parties must consider Administration priorities outlined in the current National Export Strategy. NIST will offer a limited number of workshops each year. Most workshops will be scheduled for a 3 to 5 day period at NIST in Gaithersburg, Maryland. NIST will evaluate all recommendations and may use the suggested topics in planning its workshops, subject to the availability of resources. Additional guidance is available on the NIST Standards in Trade (SIT) workshop program Web page. This notice is not an invitation for proposals to fund grants, contracts or cooperative agreements of any kind.

DATES: Recommendations may be submitted at any time and will be considered on a quarterly basis.

ADDRESSES: All recommendations must be submitted to the Standards in Trade Workshop Program through a webform at http://gsi.nist.gov/global/index.cfm/L1-4/L2-14. The National Export Strategy: Powering the National Export Initiative is available at http://trade.gov/publications/pdfs/nes2011FINAL.pdf. NIST's Three-Year Programmatic Plan is available at http://www.nist.gov/director/upload/nist-master-3-year-plan-fy2012-fy2014.pdf. Additional information about the NIST Standards in Trade Workshop Program is available at http://gsi.nist.gov/global/index.cfm/L1-4/L2-14.

FOR FURTHER INFORMATION CONTACT: Standards in Trade Workshop Program Coordinator, Mary Jo DiBernardo, (301) 975-5503, sit@nist.gov.

SUPPLEMENTARY INFORMATION: In June 2011, the Secretary of Commerce released the National Export Strategy: Powering the National Export Initiative. The report reinforces the importance of U.S. exports of goods and services, which in 2010 totaled $1.84 trillion, an increase of nearly 17% over 2009 levels, and supported more than 9 million jobs in the United States. In March 2010, President Obama issued an executive order creating the National Export Initiative, which calls for the doubling of U.S. exports by the end of 2014.

NIST's mission is to promote U.S. innovation and industrial competitiveness by advancing measurement science, standards, and technology in ways that enhance economic security and improve our quality of life. NIST's Three-Year Programmatic Plan for fiscal years 2012-2014 summarizes the current focus and priorities of the NIST programs.

Since 1995, U.S. industry has looked to the NIST Standards in Trade (SIT) program to provide opportunities for cooperation on important topics related to standards, conformity assessment and trade that are vital to the success of their businesses. SIT workshops are designed to introduce U.S. stakeholders to emerging standards and conformity assessment issues in other countries and regions; identify regulatory information and market access issues; and provide timely information to foreign officials on U.S. practices in standards, metrology, and conformity assessment. Improved understanding of U.S. standards, conformity assessment and regulatory practices by foreign governments and private sector officials helps to provide an important basis for improving trade opportunities in key foreign markets, particularly those where standards and conformity assessment practices differ substantially from those in the United States. Each SIT workshop is targeted to aid U.S. industry in becoming more competitive in foreign markets through increased transparency of market and regulatory requirements and/or promotion and use of international standards, U.S. approaches and information exchange, thus increasing trade opportunities and exports. The goals of the program are directly aligned with the U.S. Department of Commerce (DOC) and NIST missions.

In 2003, NIST began soliciting public input on topics for SIT workshops via the Federal Register. The SIT program criteria have since been updated to reflect the current priorities and initiatives of the Administration, DOC, and NIST. The process for submitting recommendations has also been updated.

To better inform NIST of timely topics for workshops, NIST solicits recommendations and suggestions from the public. To assist the public in formulating their suggestions, NIST poses the following questions to the public for their consideration in developing their workshop recommendations:

1. Recommending Organization and Primary Contact Information

Provide a primary point of contact, including the contact's name, organization, title, mailing address, telephone number and email address. Include a description of the recommending organization(s).

2. Recommended Workshop(s) and Principal Topics

What is the subject of the recommended workshop? Provide a description of the recommended workshop theme(s), industry sector(s) of focus, and targeted country or region. Provide a list of the suggested topics for the workshop and a description of each topic.

3. Goals and Objectives of Recommended Workshop

What are the recommended workshop goals and objectives to be attained? Include why they are important to U.S. industry and how they support new U.S. exports or sustain or expand current U.S. exports. Include a detailed list outlining the specific workshop objectives. Demonstrate the possibility of significant progress during and immediately after the recommended workshop(s), as well as lasting benefits extending beyond the recommended workshop(s).

4. U.S. Stakeholders

Who will likely participate at the recommended workshop and support the recommended workshop? Include a list of interested U.S. stakeholders, including U.S.-based manufacturers, U.S. industry trade associations, and federal, state and local government agencies. Additional stakeholders may include standards organizations, academia, professional societies, testing and certification organizations, etc.

5. Link to NIST and/or Other Federal Agencies

How is the recommended workshop linked to NIST activities and/or research and/or activities and/or research at other federal agencies, and what are the appropriate NIST or other agency organizational units, laboratories or programs? What is the relevance of the activity to NIST and/or other federal agencies? If known, identify the specific staff who could serve as the point of contact for each agency included in the recommendation and experts who could provide technical expertise and participate at the workshop.

6. Suggested Timing for Workshop(s)

What are some possible timeframes in which the recommended workshop might take place (e.g. fall 20XX, April-May 20XX)? Indicate if the workshop recommendation is time sensitive and, if so, provide an explanation (e.g. Is there a proposed regulation in another country that will have a significant bearing on U.S industry and U.S. exports? Is there a window of opportunity that will close by a certain date? Is there a relevant event that coincides with the recommended workshop?) How many workshops may need to occur over a defined period of time, if more than one, to achieve the stated goals and objectives outlined in Point 3? The recommended workshop should be not expected to start earlier than 6 months from the date the recommendation is submitted.

7. Expected Outcomes/Measures of Success

What are the expected outcomes and measures of the recommended workshop's success? Include a description of the following, including data and the sources of the data, where applicable:

a. Anticipated short and long-term benefits of the recommended workshop to U.S. industry for trade and market access;

b. Potential for future opportunities for collaboration and trade as a result of the recommended workshop; and

c. Desired short and long-term results of the recommended workshop and appropriate short and long-term measures for evaluating the success of the recommended workshop, including a suggested timeline.

All recommendations must address each of the above seven points. Applicants should also consider and may provide additional information on the following 2 points:

8. Additional Resources

What external funding, including cost share capability and in-kind cost sharing, is available to support the recommended workshop, and what is the source of this funding? Identify possible in-country partners if recommended workshop is to take place outside of the U.S.

9. Related Site Visits and Events

Workshops can include visits to relevant business sites or events. Provide a list of suggested site visit locations, events or other areas of interest and discuss the relevance of each to the overall purpose of the recommended workshop's goals. NIST will consider the following when developing the workshops that it will offer: Does the recommended workshop align with the Administration and/or NIST priorities? Is the workshop recommendation compatible with or complementary to these priorities? Is the recommended country, countries or region of focus identified in the National Export Strategy as a key market (target market, next tier market or mature market)? Is the product sector export-intensive and/or have the potential to enhance U.S. export opportunities? Is the recommended country/region developing infrastructure? Is there a need for standards and conformity assessment to support the changes? Have or will new regulations be proposed that will impact market entry for U.S. industry? Is there a market access issue in a specific sector, country or region? If appropriate, is there support from a regulatory or other federal agency for the workshop recommendation? Is there a significant and possible long-term commitment from U.S. industry stakeholders to support the recommendation and the goals and objectives of the recommended workshop?

All recommendations must be submitted through the webform at http://gsi.nist.gov/global/index.cfm/L1-4/L2-14.

Dated: April 6, 2012.
Willie E. May,
Associate Director for Laboratory Programs.

[FR Doc. 2012-9254 Filed 4-17-12; 8:45 am]

BILLING CODE 3510-13-P